DEPARTMENT OF COMMERCE

International Trade Administration

[C-570-107]

Wooden Cabinets and Vanities and Components Thereof From the People's Republic of China: Final Results of the Expedited First Sunset Review of the Countervailing Duty Order

AGENCY: Enforcement and Compliance, International Trade Administration, Department of Commerce.

SUMMARY: The U.S. Department of Commerce (Commerce) finds that revocation of the countervailing duty (CVD) order on wooden cabinets and vanities and components thereof (wooden cabinets) from the People's Republic of China (China) would be likely to lead to continuation or recurrence of countervailable subsidies, at the levels indicated in the “Final Results of Sunset Review” section of this notice.

DATES: Applicable July 2, 2025.

FOR FURTHER INFORMATION CONTACT: Matthew Shea, Trade Agreements Policy and Negotiations, Enforcement and Compliance, International Trade Administration, U.S. Department of Commerce, 1401 Constitution Avenue NW, Washington, DC 20230; telephone: 202-482-2583.

SUPPLEMENTARY INFORMATION:

Background

On March 3, 2025, Commerce published the notice of initiation of the five-year review of the Order,¹ pursuant to section 751(c) of the Tariff Act of 1930, as amended (the Act).² On March 18, 2025, Commerce received a notice of intent to participate in this review from the American Kitchen Cabinet Alliance (AKCA) and MasterBrand Cabinets, LLC (MasterBrand) (collectively, the petitioner), within the deadline specified in 19 CFR 351.218(d)(1)(i).³ The petitioners claimed interested party status under section 771(9)(C) and (E) of the Act, as manufacturers of a domestic like product in the United States. On April 2, 2025, the petitioners provided complete substantive responses for this review within the 30-day deadline specified in 19 CFR 351.218(d)(3)(ii).⁴ Commerce did not receive a substantive response from any respondent interested party, nor was a hearing requested.

¹ See Wooden Cabinets and Vanities and Components Thereof from the People's Republic of China: Notice of Countervailing Duty Order, 74 FR 22134 (April 21, 2020) (Order).

² See Initiation of Five-Year (Sunset) Reviews, 90 FR 11039 (March 3, 2025).

³ See AKCA's Letter, “Notice of Intent to Participate in the First Five-Year Review,” dated March 18, 2025; see also MasterBrand's Letter, “Notice of Intent to Participate in Sunset Review,” dated March 18, 2025.

⁴ See AKCA's Letter, “Domestic Interested Party's Substantive Response to the Notice of Initiation,” dated April 2, 2025 (AKCA's Substantive Response); see also MasterBrand's Letter, “Substantive Response to Notice of Initiation of Sunset Review,” April 2, 2025 (MasterBrand's Substantive Response).

On April 22, 2025, Commerce notified the U.S. International Trade Commission (ITC) that it did not receive an adequate substantive response from the Government of China (GOC) respondent interested parties.⁵ As a result, pursuant to section 751(c)(3)(B) of the Act and 19 CFR 351.218(e)(1)(ii)(C)(2), Commerce conducted an expedited (120-day) sunset review of the order.

⁵ See Commerce's Letter, “Sunset Reviews Initiated on March 3, 2025,” dated April 22, 2025.

Scope of the Order

The product covered by the Order is wooden cabinets from China. For the full description of the scope of the Order, see the Issues and Decisions Memorandum.⁶

⁶ See Memorandum, “Issues and Decision Memo for the Final Results of the Expedited Sunset Review of the Countervailing Duty Order on Wooden Cabinets and Vanities and Components Thereof from the People's Republic of China,” dated concurrently with, and hereby adopted by, this notice (Issues and Decision Memorandum).

Analysis of Comments Received

A complete discussion of all issues raised in this sunset review, including the likelihood of continuation or recurrence of subsidization in the event of revocation of the Order and the countervailable subsidy rates likely to prevail if the Order were to be revoked, is provided in the Issues and Decision Memorandum. A list of the topics discussed in the Issues and Decision Memorandum is attached in the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

Final Results of Sunset Reviews

Pursuant to sections 751(c)(1), 752(b) of the Act, Commerce determines that revocation of the Order would be likely to lead to continuation or recurrence of countervailable subsidies at the following net countervailable subsidy rates:

Producers/exporter | Subsidy rate (percent ad valorem)
The Ancientree Cabinet Co., Ltd | 13.33
Dalian Meisen Woodworking Co., Ltd | 18.27
Rizhao Foremost Woodwork Manufacturing Company | 31.18
Henan AiDiJia Furniture Co., Ltd | 293.45
Deway International Trade Co., Ltd | 293.45
All Others | 20.93

Administrative Protective Order (APO)

This notice serves as the only reminder to parties subject to APO of the responsibility concerning the disposition of proprietary information disclosed under APO in accordance with 19 CFR 351.305(a)(3). Timely written notification of return/destruction of APO materials or conversion to judicial protective order is hereby requested. Failure to comply with the regulations and terms of an APO is a sanctionable violation.

Notification to Interested Parties

We are issuing and publishing these final results in accordance with sections 751(c), 752(c), and 777(i)(1) of the Act, and 19 CFR 351.218 and 19 CFR 351.221(c)(5)(ii).

Dated: June 27, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2025-12371 Filed 7-1-25; 8:45 am]

BILLING CODE 3510-DS-P